DEPARTMENT OF TRANSPORTATION

Federal Motor Carrier Safety Administration

[Docket No. FMCSA-2020-0130]

Registration and Financial Security Requirements for Brokers of Property and Freight Forwarders; Small Business in Transportation Coalition (SBTC) Exemption Application

AGENCY: Federal Motor Carrier Safety Administration (FMCSA), DOT.

ACTION: Notice of correction; extension of comment period.

SUMMARY: FMCSA corrects the public docket number referenced in its April 10, 2020, notice announcing that the Small Business in Transportation Coalition (SBTC) seeks reconsideration of an August 14, 2013, application by the Association of Independent Property Brokers and Agents (AIPBA) for an exemption from the $75,000 bond requirement for all property brokers and freight forwarders. The Agency also extends the public comment period for that notice.

DATES: Comments must be received on or before June 3, 2020.

ADDRESSES: You may submit comments identified by Federal Docket Management System (FDMS) Number FMCSA-2020-0130 by any of the following methods:

• Federal eRulemaking Portal: www.regulations.gov. See the Public Participation and Request for Comments section below for further information.

• Mail: Send comments to Docket Operations, U.S. Department of Transportation, 1200 New Jersey Avenue SE, West Building, Ground Floor, Room W12-140, Washington, DC 20590-0001.

• Hand Delivery or Courier: Bring comments to Docket Operations, West Building, Ground Floor, Room W12-140, 1200 New Jersey Avenue SE, between 9 a.m. and 5 p.m., Monday through Friday, except Federal holidays. To be sure someone is there to help you, please call (202) 366-9317 or (202) 366-9826 before visiting Docket Operations.

• Fax: (202) 493-2251

• Each submission must include the Agency name and the docket number for this notice. Note that DOT posts all comments received without change to www.regulations.gov, including any personal information included in a comment. Please see the Privacy Act heading below.

• Docket: For access to the docket to read background documents or comments, go to www.regulations.gov at any time or visit Docket Operations, Room W12-140 on the ground level of the West Building, 1200 New Jersey Avenue SE, Washington, DC, between 9 a.m. and 5 p.m., ET, Monday through Friday, except Federal holidays. To be sure someone is there to help you, please call (202) 366-9317 or (202) 366-9826 before visiting Docket Operations.

Privacy Act: DOT posts public comments, without edit, including any personal information the commenter provides, to www.regulations.gov, as described in the system of records notice (DOT/ALL-14 FDMS), which can be reviewed at www.dot.gov/privacy.

FOR FURTHER INFORMATION CONTACT: Ms. Pearlie Robinson, FMCSA Driver and Carrier Operations Division; Office of Carrier, Driver and Vehicle Safety Standards; (202) 366-4325; MCPSD@dot.gov. If you have questions on viewing or submitting material to the docket, contact Docket Operations, (202) 366-9826.

SUPPLEMENTARY INFORMATION: On April 10, 2020 (85 FR 20334), FMCSA published a notice announcing that SBTC seeks reconsideration of an August 14, 2013, application by the AIPBA for an exemption from the $75,000 bond requirement for all property brokers and freight forwarders. The notice referenced in error “FMCSA-2020-0239” as the docket number for the submission of public comments. The correct docket number for this notice is “FMCSA-2020-0130.”

All interested parties that would like to see the SBTC's request, read the public comments concerning this matter, or submit comments should use “FMCSA-2020-0130” when visiting http://www.regulations.gov. Any comments concerning SBTC's request, and submitted to docket number FMCSA-2020-0239 prior to the publication of this notice will be transferred to docket number FMCSA-2020-0130.

In addition to correcting the docket number, FMCSA extends the comment period to ensure that interested parties have sufficient time to review the SBTC request filed under the proper docket, and submit comments to that docket.

Larry W. Minor,
Associate Administrator for Policy.

[FR Doc. 2020-09467 Filed 5-1-20; 8:45 am]

BILLING CODE 4910-EX-P